DEPARTMENT OF THE INTERIOR

Fish and Wildlife Service

50 CFR Part 17

Endangered and Threatened Wildlife and Plants; Review of Species That Are Candidates or Proposed for Listing as Endangered or Threatened; Annual Notice of Findings on Resubmitted Petitions; Annual Description of Progress on Listing Actions; Correction

AGENCY: Fish and Wildlife Service, Interior.

ACTION: Notice of review; correction.

SUMMARY: This document corrects language used to refer to three grizzly bear populations, and corrects three entries in Table 1 to a notice published in the Federal Register of May 4, 2004, regarding the review of species that are candidates for listing under the Endangered Species Act, as amended. The corrections are that the three grizzly bear populations are referred to as populations and not distinct population segments (DPS), the species Leavenworthia crassa, an unnamed gladecress, is added to the list of candidate plant species, the priority number for the black-tailed prairie dog (Cynomys ludovicianus) is an 8, and the historic range for the sheepnose mussel (Plethobasus cyphyus) is as follows: U.S.A. (AL, IA, IL, IN, KY, MN, MO, MS, OH, PA, TN, VA, WI, WV).

FOR FURTHER INFORMATION CONTACT: Nancy Green, 703-358-2105.

Correction

In proposed rule FR Doc. 04-9893, beginning on page 24876 in the issue of May 4, 2004, make the following corrections to the notice. On page 24894, under the section entitled Petitions to Reclassify Species Already Listed, replace the term “DPS” used to refer to the three grizzly bear petitions with the word “population.” On page 24896 in the 2nd column of Table 1, under Priority, for the black-tailed prairie dog (Cynomys ludovicianus), replace the number 11 with an 8; on page 24898 in the last column of Table 1, under Historic range, for the sheepnose mussel (Plethobasus cyphyus), replace “Entire” with “U.S.A. (AL, IA, IL, IN, KY, MN, MO, MS, OH, PA, TN, VA, WI, WV)'; and, on page 24902, in Table 1, insert the following candidate species and information, after the entry for Lagenifera helenae: Category -C, Priority -5, Lead Region -4, Scientific name—Leavenworthia crassa, Family—Brassicaceae, Common name—Gladecress, unnamed, Historic range—U.S.A. (AL).

Dated: May 13, 2004.
Steve Williams,
Director, Fish and Wildlife Service.

[FR Doc. 04-11440 Filed 5-19-04; 8:45 am]

BILLING CODE 4310-55-P